DEPARTMENT OF COMMERCE

International Trade Administration

[A-357-816]

Notice of Amended Preliminary Determination of Sales at Less Than Fair Value: Cold-Rolled Carbon Steel Flat Products from Argentina

AGENCY: Import Administration, International Trade Administration, Department of Commerce.

ACTION: Notice of amended preliminary antidumping duty determination of sales at less than fair value: cold-rolled carbon steel flat products from Argentina

EFFECTIVE DATE: June 19, 2002.

FOR FURTHER INFORMATION CONTACT: J. David Dirstine, Import Administration, International Trade Administration, U.S. Department of Commerce, 14th Street and Constitution Avenue, NW, Washington, DC 20230; telephone: (202) 482-4033.

SUPPLEMENTARY INFORMATION:

The Applicable Statute and Regulations

Unless otherwise indicated, all citations to the statute are references to the provisions effective January 1, 1995, the effective date of the amendments made to the Tariff Act of 1930 (the Act) by the Uruguay Round Agreements Act (URAA). In addition, unless otherwise indicated, all citations to the Department of Commerce's (the Department's) regulations are to the provisions codified at 19 CFR Part 351 (2001).

Significant Ministerial Error

The Department of Commerce (the Department) is amending the preliminary determination of sales at less than fair value in the antidumping duty investigation of cold-rolled carbon steel flat products from Argentina to reflect the correction of two ministerial errors made in the margin calculations regarding Siderar S.A.I.C. (Siderar) in that determination, pursuant to 19 CFR 341.224(g)(1) and (g)(2). A ministerial error is defined as an error in addition, subtraction, or other arithmetic function, clerical error resulting from inaccurate copying, duplication, or the like, and any other similar type of unintentional error which the Secretary considers ministerial. See 19 CFR 351.224(f). A significant ministerial error is defined as an error, the correction of which, singly or in combination with other errors, would result in (1) a change of at least five absolute percentage points in, but not less than 25 percent of, the weighted-average dumping margin calculated in the original (erroneous) preliminary determination; or (2) a difference between a weighted-average dumping margin of zero or de minimis and a weighted-average dumping margin of greater than de minimis or vice versa. See 19 CFR 351.224(g). In this case, correction of the ministerial errors results in a reduction in the margin considered significant within the meaning of 19 CFR 351.224(g)(1). We are publishing this amendment to the preliminary determination pursuant to 19 CFR 351.224(e). As a result of this amended preliminary determination, we have revised the antidumping rates for the respondent, Siderar, and the all-others rate.

Scope of Investigation

For purposes of this investigation, the products covered are certain cold-rolled (cold-reduced) flat-rolled carbon-quality steel products. For a full description of the scope of this investigation, please see the Scope Appendix attached to the affirmative preliminary determination in this proceeding. See Notice of Preliminary Determination of Sales at Less Than Fair Value, Postponement of Final Determination, and Preliminary Negative Determination of Critical Circumstances: Certain Cold-Rolled Carbon Steel Flat Products from Argentina, 67 FR 31181 (May 9, 2002) (Preliminary Determination).

Ministerial-Errors Allegation

On May 9, 2002, the Department issued its affirmative preliminary determination in this proceeding. See Preliminary Determination. There is one respondent manufacturer/exporter, Siderar, in this investigation.

On May 3, 2002, the Department received timely allegations of ministerial errors (in accordance with section 351.224(c)(2) of the Department's regulations) in the Preliminary Determination from Siderar. Siderar alleged that the Department made an inadvertent programming error in calculating Siderar's interest expense by misplacing a decimal point in the calculations. Siderar also alleged that, although intended by the Department, non-prime home-market sales were inadvertently not excluded from the margin calculation.

The Department has reviewed its preliminary calculations and agrees that the errors which Siderar alleged do constitute ministerial errors within the meaning of 19 CFR 351.224(f). Furthermore, we determine that the change in the margin resulting from correcting these errors is significant pursuant to 19 CFR 351.224(g)(1). We are amending the Preliminary Determination to reflect the correction of these ministerial errors pursuant to 19 CFR 351.224(e). See the Siderar Amended Preliminary Calculation Memorandum from J. David Dirstine to the File, dated May 30, 2002.

The collection of bonds or cash deposits and suspension of liquidation will be revised accordingly.

Amended Preliminary Determination

As a result of our correction of the ministerial errors, we have determined that the following dumping margins apply. In accordance with section 733(d)(2) of the Act, we are directing the Customs Service to continue to suspend liquidation of all imports of subject merchandise. We will instruct the Customs Service to require a cash deposit or the posting of a bond equal to the weighted-average amounts as indicated in the chart below for subject merchandise entered, or withdrawn from warehouse, for consumption on or after the date of publication of this notice in the Federal Register. These suspension-of-liquidation instructions will remain in effect until further notice. The weighted-average dumping margins are as follows:

Exporter/manufacturer | Weighted-average percentage margin
Siderar | 43.46
All Others | 43.46

** As Siderar was the only respondent that we investigated, we used Siderar's margin as the all-others rate.

International Trade Commission Notification

In accordance with section 733(f) of the Act, we have notified the ITC of our amended preliminary determination. If our final determination is affirmative, the ITC will determine before the later of 120 days after the date of the preliminary determination or 45 days after our final determination whether these imports are materially injuring, or threaten material injury to, the U.S. industry.

Public Comment

Case briefs for this investigation must be submitted to the Department no later than seven days after the date of the final verification report issued in this proceeding. Rebuttal briefs must be filed five days from the deadline date for case briefs. A list of authorities used, a table of contents, and an executive summary of issues should accompany any briefs submitted to the Department. Executive summaries should be limited to five pages total, including footnotes. Section 774 of the Act provides that the Department will hold a public hearing to afford interested parties an opportunity to comment on arguments raised in case or rebuttal briefs, provided that such a hearing is requested by an interested party. If a request for a hearing is made in this investigation, the hearing will tentatively be held two days after the rebuttal-brief deadline date at the U.S. Department of Commerce, 14th Street and Constitution Avenue, NW, Washington, D.C. 20230.

Interested parties who wish to request a hearing, or to participate if one is requested, must submit a written request to the Assistant Secretary for Import Administration, U.S. Department of Commerce, Room 1870, within 30 days of the publication of this notice. Requests should contain: (1) the party's name, address, and telephone number; (2) the number of participants; and (3) a list of the issues to be discussed. Oral presentations will be limited to issues raised in the briefs.

We will make our final determination no later than September 23, 2002.

This determination is issued and published in accordance with sections 733(f) and 777(i)(1) of the Act.

Dated: June 12, 2002
Richard W. Moreland,
Acting Assistant Secretary for Import Administration.

[FR Doc. 02-15479 Filed 6-18-02; 8:45 am]

BILLING CODE 3510-DS-S